DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed revised information collection. In accordance with the Paperwork Reduction Act of 1995, this notice seeks comments concerning the Crisis Counseling Program for Immediate Services Program, which provides funding in response to a State request for crisis counseling assistance for a Presidentially-declared disaster.

SUPPLEMENTARY INFORMATION: Section 416 of the Robert T. Stafford Disaster Relief and Emergency Assistance Act (the Act), Public Law 93-288, as amended, authorizes the President to provide financial assistance to state and local governments for professional counseling services to victims of major disasters in order to relieve mental health problems caused or aggravated by a major disaster or its aftermath. Under the provisions of section 416 of the Act, FEMA issued the Crisis Counseling Assistance and Training Regulations (44 CFR 206.171). Section 416 of the Act is the authority under which the President has designated the Department of Health and Human Services, through the Center for Mental Health Services (CMHS), to coordinate with FEMA in administering the Crisis Counseling Assistance and Training Program (CCP). FEMA and CMHS, Substance Abuse and Mental Health Services Administration, Department of Health and Human Services have signed an interagency agreement under which CMHS provides technical assistance and consultation to States applying for CCP funding.

Collection of Information

Title: Crisis Counseling Assistance and Training Program—Immediate Services Program.

Type of Information Collection: Revisions of a Currently Approved Collection.

OMB Number: 1660-0085.

Form Numbers: None.

Abstract: FEMA requires that the State complete an ISP Standard Application for CCP that includes the following: (i) The geographical areas within the designated disaster area for which services will be provided; (ii) An estimate of the number of disaster victims requiring assistance; (iii) A description of the state and local resources and capabilities, and an explanation of why these resources cannot meet the need; (iv) A description of response activities from the date of the disaster incident to the date of application; (v) A plan of services to be provided to meet the identified needs; and (vi) A detailed budget, showing the cost of proposed services separately from the cost of reimbursement for any eligible services provided prior to application.

Affected Public: State, Local or Tribal Government.

Estimated Total Annual Burden Hours:

Annual Burden Hours
Project/activity (survey, form(s), focus group, etc.) | No. of respondents | Frequency of responses | Burden hours per respondent | Annual responses | Total annual burden hours
| (A) | (B) | (C) | (A×B ) | (A×B×C)
CCP/ISP Application | 56 | 1 | 40 | 19 | 760
Narrative Final Reporting | 56 | 1 | 10 | 19 | 190
Training | 56 | 1 | 32 | 30 | 960
Total |  |  | 82 |  | 1,910

Estimated Cost: The annualized cost to respondents using wage rate catergories is estimated to be $70,841.90. This is based on an average of 19 Immediate Services grants being awarded during a fiscal year and an annual total burden of 1,910 hours for one State Disaster Mental Health coordinator at $37.09 per hour. There is no other program cost to respondents for this information collection. FEMA/CMHS provide annual technical assistances, CCP trainings and workshops for State representatives. The total cost for FEMA and CMHS Immediate Services Program Federal staff salaries is estimated to be $57,439.92. There is no other government program cost involved with this information collection.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before August 25, 2006.

ADDRESSES: Interested persons should submit written comments to Chief, Records Management Section, Information Resources Management Branch, Information Technology Services Division, Federal Emergency Management Agency, 500 C Street, SW., Room 316,Washington, DC 20472.

FOR FURTHER INFORMATION CONTACT: Victoria Childs, Program Specialist, Recovery Branch, (202) 646-3844 for additional information. You may contact the Records Management Branch for copies of the proposed collection of information at facsimile number (202) 646-3347 or e-mail address: FEMA-Information-Collections@dhs.gov.

Dated: June 21, 2006.
John A. Sharetts-Sullivan,
Chief, Records Management Section, Information Resources Management Branch, Information Technology Services Division.

[FR Doc. E6-10028 Filed 6-23-06; 8:45 am]

BILLING CODE 9110-10-P